ENVIRONMENTAL PROTECTION AGENCY

[EPA-HQ-OECA-2014-0040; FRL-9928-41-OEI]

Information Collection Request Submitted to OMB for Review and Approval; Comment Request; NSPS for Hot Mix Asphalt Facilities (Renewal)

AGENCY: Environmental Protection Agency (EPA).

ACTION: Notice.

SUMMARY: The Environmental Protection Agency has submitted an information collection request (ICR), “NSPS for Hot Mix Asphalt Facilities (40 CFR part 60, subpart I) (Renewal)” (EPA ICR No. 1127.11, OMB Control No. 2060-0083) to the Office of Management and Budget (OMB) for review and approval in accordance with the Paperwork Reduction Act (44 U.S.C. 3501 et seq.). This is a proposed extension of the ICR, which is currently approved through May 31, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before June 29, 2015.

ADDRESSES: Submit your comments, referencing Docket ID Number EPA-HQ-OECA-2014-0040, to (1) EPA online using www.regulations.gov (our preferred method), by email to docket.oeca@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, EPA West, Room 3334, 1301 Constitution Ave. NW., Washington, DC. The telephone number for the Docket Center is 202-566-1744. For additional information about EPA's public docket, visit http://www.epa.gov/dockets.

Abstract: These regulations apply to hot mix asphalt facilities comprised only of a combination of the following: Dryers; systems for screening, handling, storing, and weighing hot aggregate; systems for loading, transferring, and storing mineral filler; systems for mixing hot mix asphalt; and the loading, transfer, and storage systems associated with emission control systems.

Form Numbers: None.

Respondents/affected entities: Hot mix asphalt facilities.

Respondent's obligation to respond: Mandatory (40 CFR part 60, subpart I).

Estimated number of respondents: 4,640 (total).

Frequency of response: Initially and occasionally.

Total estimated burden: 19,000 hours (per year). Burden is defined at 5 CFR 1320.3(b).

Total estimated cost: $1,893,000 (per year), includes $0 annualized capital or operation & maintenance costs.

Changes in the Estimates: There is an adjustment increase in the estimated burden as currently identified in the OMB Inventory of Approved Burdens. The increase is not due to any program changes. The change in burden occurred because the number of respondents subject to the standard has increased since the last ICR renewal period. In addition, the use of more updated labor rates results in an increase in total labor costs.

Courtney Kerwin,
Acting Director, Collection Strategies Division.

[FR Doc. 2015-12945 Filed 5-27-15; 8:45 am]

BILLING CODE 6560-50-P